NATIONAL FOUNDATION ON THE ARTS AND THE HUMANITIES

National Endowment for the Arts; Submission for OMB Review; Comment Request

September 20, 2000.

The National Endowment for the Arts (NEA) has submitted the following public information collection request (ICR) to the Office of Management and Budget (OMB) for review and approval in accordance with Paperwork Reduction Act of 1995 [Pub. L. 104-13, 44 U.S.C. Chapter 35]. Copies of this ICR, with applicable supporting documentation, may be obtained by calling the National Endowment for the Arts' Research Division, Tom Bradshaw, Director, 202/682-5432. Individuals who use a telecommunications device for the deaf (TTY/TDD) may call 202/682-5496 between 10 a.m. and 4 p.m. Eastern time, Monday through Friday.

Comments should be sent to the Office of Information and Regulatory Affairs, Attn: OMB Desk Officer for the National Endowment for the Arts, Office of Management and Budget, Room 10235, Washington, DC 20503 202/395-7316, within 30 days from the date of this publication in the Federal Register.

The Office of Management and Budget (OMB) is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques, or other forms of information technology, e.g., permitting electronic submissions of responses.

Agency: National Endowment for the Arts.

Title: Jazz Musician Questionnaires.

OMB Number: New.

Frequency: One Time.

Affected Public: Jazz musicians in New York, New Orleans, Detroit, and San Francisco.

Estimated Number of Respondents: 3,100.

Estimated Time Per Respondent: 25 minutes.

Total Burden Hours: 1,231.

Total Annualized Capital/Startup Costs: 0.

Total Annual Costs (Operating/Maintaining Systems or Purchasing Services): 0.

Description: Information on the condition and needs of jazz artists working in these four major jazz cities. This information is necessary for the NEA to make informed policy decisions regarding the appropriate design of agency programs to support the jazz community. The NEA has sponsored this survey pursuant to its mandate to support “project and productions that will encourage and assist artists * * *” and “other relevant projects including surveys, research, and publications * * *” (U.S.C. 20 Section (5)).

ADDRESSES: Tom Bradshaw, Research Division, National Endowment for the Arts, 1100 Pennsylvania Avenue, NW., Room 617, Washington, DC 20506-0001, telephone 202/682-5432 (this is not a toll-free number), fax 202/682-5677.

Murray Welsh,
Director, Administrative Services, National Endowment for the Arts.

[FR Doc. 00-24684 Filed 9-25-00; 8:45 am]

BILLING CODE 7536-01-M